DEPARTMENT OF TRANSPORTATION

Federal Aviation Administration

14 CFR Part 39

[Docket No. FAA-2020-0979; Project Identifier MCAI-2020-01313-E; Amendment 39-21317; AD 2020-23-01]

RIN 2120-AA64

Airworthiness Directives; GE Aviation Czech s.r.o. (Type Certificate Previously Held by WALTER Engines a.s., Walter a.s., and MOTORLET a.s.) Turboprop Engines

AGENCY: Federal Aviation Administration (FAA), DOT.

ACTION: Final rule; request for comments.

SUMMARY: The FAA is adopting a new airworthiness directive (AD) for all GE Aviation Czech s.r.o. (GEAC) M601D-11, M601E-11, M601E-11A, M601E-11AS, M601E-11S, M601F, H75-200, H80-100, H80-200, and H85-200 model turboprop engines. This AD was prompted by reports of engine power fluctuations occurring during ground tests. This AD requires the removal and replacement of the fuel control unit (FCU). The FAA is issuing this AD to address the unsafe condition on these products.

DATES: This AD is effective November 24, 2020.

The Director of the Federal Register approved the incorporation by reference of a certain publication listed in this AD as of November 24, 2020.

The FAA must receive comments on this AD by December 24, 2020.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact GE Aviation Czech s.r.o., Beranových 65, 199 02 Praha 9—Letňany, Czech Republic; phone: +420 222 538 111; fax +420 222 538 222. You may view this service information at the FAA, Airworthiness Products Section, Operational Safety Branch, 1200 District Avenue, Burlington, MA 01803. For information on the availability of this material at the FAA, call (781) 238-7759. It is also available at https://www.regulations.gov by searching for and locating Docket No. FAA-2020-0979.

Examining the AD Docket

You may examine the AD docket at https://www.regulations.gov by searching for and locating Docket No. FAA-2020-0979; or in person at Docket Operations between 9 a.m. and 5 p.m., Monday through Friday, except Federal holidays. The AD docket contains this final rule, any comments received, and other information. The street address for the Docket Operations is listed above.

FOR FURTHER INFORMATION CONTACT: Barbara Caufield, Aviation Safety Engineer, ECO Branch, FAA, 1200 District Avenue, Burlington, MA 01803; phone: (781) 238-7146; fax: (781) 238-7199; email: barbara.caufield@faa.gov.

SUPPLEMENTARY INFORMATION:

Background

The European Union Aviation Safety Agency (EASA), which is the Technical Agent for the Member States of the European Community, has issued EASA AD 2020-0201R1, dated September 25, 2020 (referred to after this as “the MCAI”), to address an unsafe condition for the specified products. The MCAI states:

Several occurrences of engine power fluctuations have been reported during ground tests on engines equipped with an affected part. The investigation results determined that one or more rubber cuff sealings of the cage reinforcement inside the main metering valve of the FCU was wrongly installed, which reduced the cuff ability to properly seal the FCU working pressure.

This condition, if not corrected, may lead to engine surge, fluctuations, or loss of engine power, possibly resulting in loss of control of control of the aeroplane.

To address this potential unsafe condition, GEAC issued the ASB, providing replacement instructions, and EASA issued Emergency AD 2020-0201-E to require, for engines having an affected part installed, replacement with a serviceable part. That [EASA] AD also prohibited (re)installation of an affected part.

Since that [EASA] AD was issued, it was discovered that an FCU s/n was incorrectly specified in the ASB and, consequently, wrongly quoted in the EASA AD. GEAC revised the ASB to correct that error and this [EASA] AD is revised to amend Appendix 1 (Group 3, s/n 903004 instead of 903008) accordingly.

You may obtain further information by examining the MCAI in the AD docket at https://www.regulations.gov by searching for and locating Docket No. FAA-2020-0979.

FAA's Determination

This product has been approved by EASA and is approved for operation in the United States. Pursuant to our bilateral agreement with the European Community, EASA has notified us of the unsafe condition described in the MCAI. The FAA is issuing this AD because the agency evaluated all the relevant information provided by EASA and has determined that the unsafe condition described previously is likely to exist or develop in other products of the same type design.

Related Service Information Under 1 CFR Part 51

The FAA reviewed GE Aviation Czech Alert Service Bulletin (ASB) ASB-H75-73-00-00-0038 [01], ASB-H80-73-00-00-0074 [01], ASB-H85-73-00-00-0032 [01], ASB-M601D-73-00-00-0066 [01], ASB-M601E-73-00-00-0097 [01], ASB-M601F-73-00-00-0050 [01], and ASB-M601T-73-00-00-0040 [01] (single document; formatted as service bulletin identifier [revision number]), dated September 24, 2020. The ASB describes procedures for removing and replacing the FCU and identifies the affected FCUs. This service information is reasonably available because the interested parties have access to it through their normal course of business or by the means identified in ADDRESSES.

AD Requirements

This AD requires the removal and replacement of the FCU.

Differences Between This AD and the MCAI

EASA AD 2020-0201R1, dated September 25, 2020, applies to GEAC M601D, M601D-1, M601D-11, M601D-11NZ, M601E, M601E-11, M601E-11A, M601E-11AS, M601E-11S, M601E-21, M601F, M601F-22, M601F-32, M601FS, M601T, H75-200, H80-100, H80-200, and H85-200 model turboprop engines. This AD does not include GEAC M601D, M601D-1, M601D-11NZ, M601E, M601E-21, M601F-22, M601F-32, M601FS, and M601T model turboprop engines as they are not type certificated in the U.S.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, Section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule. During ground tests performed by the manufacturer on engines equipped with affected FCUs, several occurrences of engine power fluctuations were reported. After investigation, the manufacturer determined that one or more rubber cuff sealings of the cage reinforcement inside the main metering valve of the FCU was incorrectly installed, which reduced the cuff sealing's ability to properly seal the FCU working pressure. This unsafe condition, caused by a manufacturing quality issue, may result in loss of engine thrust control and reduced control of the airplane.

FCUs installed on Group 1 engines have the highest risk of malfunction. To maintain an acceptable level of safety, these FCUs must be replaced within 10 flight hours (FHs) after the effective date of this AD. FCUs installed on Group 2 and Group 3 engines have a lower risk of malfunction than those installed on Group 1 engines. Therefore, for Group 2 engines, FCUs must be replaced within 50 FHs or 60 days after the effective day of this AD, whichever occurs first. For Group 3 engines, FCUs must be replaced within 100 FHs or 180 days after the effective date of this AD, whichever occurs first.

The FAA considers the removal of the affected FCUs to be an urgent safety issue. Accordingly, notice and opportunity for prior public comment are impracticable, pursuant to 5 U.S.C. 553(b)(3)(B).

In addition, the FAA finds that good cause exists pursuant to 5 U.S.C. 553(d) for making this amendment effective in less than 30 days, for the same reasons the FAA found good cause to forego notice and comment.

Comments Invited

The FAA invites you to send any written data, views, or arguments about this final rule. Send your comments to an address listed under ADDRESSES. Include the docket number FAA-2020-0979 and Project Identifier MCAI-2020-01313-E at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Barbara Caufield, Aviation Safety Engineer, ECO Branch, FAA, 1200 District Avenue, Burlington, MA 01803. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

The FAA estimates that this AD affects 12 engines installed on airplanes of U.S. registry.

The FAA estimates the following costs to comply with this AD:

Estimated Costs
Action | Labor cost | Parts cost | Cost per product | Cost on U.S. operators
Remove and replace FCU | 5 work-hours × $85 per hour = $425 | $25,000 | $25,425 | $305,100

The FAA has included all known costs in its cost estimate. According to the manufacturer, however, all of the costs of this AD may be covered under warranty, thereby reducing the cost impact on affected operators.

Authority for This Rulemaking

Title 49 of the United States Code specifies the FAA's authority to issue rules on aviation safety. Subtitle I, section 106, describes the authority of the FAA Administrator. “Subtitle VII: Aviation Programs” describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2020-23-01 GE Aviation Czech s.r.o (Type Certificate previously held by WALTER Engines a.s., Walter a.s., and MOTORLET a.s.): Amendment 39-21317; Docket No. FAA-2020-0979; Project Identifier MCAI-2020-01313-E.

(a) Effective Date

This airworthiness directive (AD) is effective November 24, 2020.

(b) Affected ADs

None.

(c) Applicability

This AD applies to all GE Aviation Czech s.r.o. (GEAC) M601D-11, M601E-11, M601E-11A, M601E-11AS, M601E-11S, M601F, H75-200, H80-100, H80-200, and H85-200 model turboprop engines, with a fuel control unit (FCU) part number (P/N) and serial number (S/N) listed in Appendix 1—Affected Parts of GE Aviation Czech Alert Service Bulletin (ASB) ASB-H75-73-00-00-0038 [01], ASB-H80-73-00-00-0074 [01], ASB-H85-73-00-00-0032 [01], ASB-M601D-73-00-00-0066 [01], ASB-M601E-73-00-00-0097 [01], ASB-M601F-73-00-00-0050 [01], and ASB-M601T-73-00-00-0040 [01] (single document; formatted as service bulletin identifier [revision number]), dated September 24, 2020 (the ASB), installed.

(d) Subject

Joint Aircraft System Component (JASC) Code 7321, Fuel Control/Turbine Engines.

(e) Unsafe Condition

This AD was prompted by incorrect installation by the manufacturer of one or more rubber cuff sealings of the cage reinforcement inside the main metering valve of the FCU, which reduces the cuff sealing's ability to properly seal the FCU working pressure. The FAA is issuing this AD to prevent the malfunction of the FCU, which could cause engine parameter oscillation or overshoots. The unsafe condition, if not addressed, could result in loss of engine thrust control and reduced control of the airplane.

(f) Compliance

Comply with this AD within the compliance times specified, unless already done.

(g) Required Actions

Before exceeding the applicable compliance time in Table 1 to paragraph (g) of this AD, remove the affected FCU and replace it with a part eligible for installation using the Accomplishment Instructions, paragraph 2, of the ASB.

(h) Installation Prohibition

After the effective date of this AD, do not install onto any engine an affected FCU with a P/N and S/N identified in Appendix 1—Affected Parts of the ASB.

(i) No Repair Requirement

The repair requirement in the Accomplishment Instructions, paragraph 2, of the ASB is not required by this AD.

(j) Definitions

(1) For the purpose of this AD, a “part eligible for installation” is a FCU with aP/N and S/N that is not identified in Appendix 1—Affected Parts of the ASB.

(2) For the purpose of this AD, a “Group 1 engine” is a GEAC model turboprop engine that has a FCU P/N and S/N listed in Appendix 1—Affected Parts, Group 1, of the ASB.

(3) For the purpose of this AD, a “Group 2 engine” is a GEAC model turboprop engine that has a FCU P/N and S/N listed in Appendix 1—Affected Parts, Group 2, of the ASB.

(4) For the purpose of this AD, a “Group 3 engine is a GEAC model turboprop engine that has a FCU P/N and S/N listed in Appendix 1—Affected Parts, Group 3, of the ASB.

(k) Alternative Methods of Compliance (AMOCs)

(1) The Manager, ECO Branch, FAA, has the authority to approve AMOCs for this AD, if requested using the procedures found in 14 CFR 39.19. In accordance with 14 CFR 39.19, send your request to your principal inspector or local Flight Standards District Office, as appropriate. If sending information directly to the manager of the certification office, send it to the attention of the person identified in Related Information. You may email your request to: ANE-AD-AMOC@faa.gov.

(2) Before using any approved AMOC, notify your appropriate principal inspector, or lacking a principal inspector, the manager of the local flight standards district office/certificate holding district office.

(l) Related Information

For more information about this AD, contact Barbara Caufield, Aviation Safety Engineer, ECO Branch, FAA, 1200 District Avenue, Burlington, MA 01803; phone: (781) 238-7146; fax: (781) 238-7199; email: barbara.caufield@faa.gov.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) GE Aviation Czech Alert Service Bulletin (ASB) ASB-H75-73-00-00-0038 [01], ASB-H80-73-00-00-0074 [01], ASB-H85-73-00-00-0032 [01], ASB-M601D-73-00-00-0066 [01], ASB-M601E-73-00-00-0097 [01], ASB-M601F-73-00-00-0050 [01], and ASB-M601T-73-00-00-0040 [01] (single document; formatted as service bulletin identifier [revision number]), dated September 24, 2020.

(ii) [Reserved]

(3) For GE Aviation Czech service information identified in this AD, contact GE Aviation Czech s.r.o., Beranových 65, 199 02 Praha 9—Letňany, Czech Republic; phone: +420 222 538 111.

(4) You may view this service information at FAA, Airworthiness Products Section, Operational Safety Branch, 1200 District Avenue, Burlington, MA 01803. For information on the availability of this material at the FAA, call (781) 238-7759.

(5) You may view this service information that is incorporated by reference at the National Archives and Records Administration (NARA). For information on the availability of this material at NARA, email: fedreg.legal@nara.gov, or go to: https://www.archives.gov/federal-register/cfr/ibr-locations.html.

Issued on October 27, 2020.
Gaetano A. Sciortino,
Deputy Director for Strategic Initiatives, Compliance & Airworthiness Division, Aircraft Certification Service.

[FR Doc. 2020-24794 Filed 11-6-20; 8:45 am]

BILLING CODE 4910-13-P